DEPARTMENT OF ENERGY

Federal Energy Regulatory Commission

[Docket No. ER99-3151-008, etc.]

PJM RTO Filers et al; Notice of Filing and Setting Forth Timeline

June 6, 2008.

PSEG Energy Resources & Trade LLC | Docket No. ER99-3151-008.
Public Service Electric and Gas Company | Docket No. ER97-837-007.
PSEG Power Connecticut LLC | Docket No. ER03-327-002.
PSEG Fossil LLC | Docket No. ER08-447-000.
PSEG Nuclear LLC | Docket No. ER08-448-000.
Allegheny Power | Docket No. ER98-1466-005.
Allegheny Energy Supply Company, LLC | Docket No. ER00-814-006.
Green Valley Hydro, LLC | Docket No. ER00-2924-006.
Buchanan Generation, LLC | Docket No. ER02-1638-005.
PPL Electric Utilities Corporation, | Docket No. ER00-1712-008.
Lower Mount Bethel Energy, LLC | Docket No. ER02-2408-003.
PPL Brunner Island, LLC | Docket No. ER00-744-006.
PPL Holtwood, LLC | Docket No. ER00-744-006.
PPL Marlins Creek, LLC | Docket No. ER00-744-006.
PPL Montour, LLC | Docket No. ER00-744-006.
PPL Susquehanna, LLC | Docket No. ER00-744-006.
PPL University Park, LLC | Docket No. ER02-1327-005.
PPL EnergyPlus, LLC | Docket No. ER00-1703-003.
PPL Edgewood Energy, LLC | Docket No. ER02-1749-003.
PPL Shoreham Energy, LLC | Docket No. ER02-1747-003.
PPL Great Works, LLC | Docket No. ER99-4503-005.
PPL Maine, LLC | Docket No. ER00-2186-003.
PPL Wallingford Energy LLC | Docket No. ER01-1559-004.
Atlantic City Electric Company | Docket No. ER96-1361-013.
Delmarva Power & Light Company | Docket No. ER99-2781-011.
Potomac Electric Power Company | Docket No. ER98-4138-009.
Conectiv Energy Supply, Inc. | Docket No. ER00-1770-019.
Conectiv Bethlehem, LLC | Docket No. ER02-453-010.
Pepco Energy Services, Inc. | Docket No. ER98-3096-015.
Bethlehem Renewable Energy, LLC | Docket No. ER07-903-002.
Eastern Landfill Gas, LLC | Docket No. ER05-1054-003.
Potomac Power Resources, LLC | Docket No. ER01-202-008.
Fauquier Landfill Gas, LLC | Docket No. ER04-472-007.
Dominion Energy Marketing, Inc. | Docket No. ER01-468-008.
Dominion Nuclear Connecticut, Inc. | Docket No. ER00-3621-009.
Dominion Nuclear Marketing III, LLC | Docket No. ER00-3746-009.
Dominion Energy Kewaunee, Inc. | Docket No. ER04-318-004.
Dominion Energy Brayton Point, LLC | Docket No. ER05-36-005.
Dominion Energy Manchester Street, Inc. | Docket No. ER05-37-005.
Dominion Energy New England, Inc. | Docket No. ER05-34-005.
Dominion Energy Salem | Docket No. ER05-35-005.
Dominion Retail, Inc. | Docket No. ER04-249-005.
Elwood Energy, LLC | Docket No. ER99-1695-010.
Fairless Energy, LLC | Docket No. ER02-23-011.
Kincaid Generation, LLC | Docket No. ER97-30-006.
State Line Energy, LLC | Docket No. ER96-2869-013.
Virginia Electric and Power Company | Docket No. ER97-3561-005. Docket No. ER00-1737-011.
Baltimore Gas and Electric Company | Docket No. ER99-2948-012.
Constellation Power Source Generation, Inc. | Docket No. ER00-2918-011.
Calvert Cliffs Nuclear Power Plant, Inc. | Docket No. ER00-2917-011.
Constellation Energy Commodities Group, Inc. | Docket No. ER97-2261-022.
Handsome Lake Energy, LLC | Docket No. ER01-556-010.
Nine Mile Point Nuclear Station, LLC | Docket No. ER01-1654-013.
Constellation NewEnergy, Inc. | Docket No. ER02-2567-011.
Constellation Energy Commodities Group Maine, LLC | Docket No. ER02-699-005.
R.E. Ginna Nuclear Power Plant, LLC | Docket No. ER04-485-008.
Raven One, LLC | Docket No. ER07-247-003.
Raven Two, LLC | Docket No. ER07-245-003.
Raven Three, LLC | Docket No. ER07-244-003.
Exelon Generation Company, LLC | Docket No. ER00-3251-015.
AmerGen Energy Company, LLC | Docket No. ER99-754-016.
Commonwealth Edison Company | Docket No. ER98-1734-014.
Exelon Energy Company | Docket No. ER01-1919-011.
PECO Energy Company | Docket No. ER01-1147-006.
Exelon West Medway, LLC | Docket No. ER01-513-021.
Exelon Wyman, LLC | Docket No. ER01-513-021.
Exelon New Boston, LLC | Docket No. ER01-513-021.
Exelon Framingham, LLC | Docket No. ER01-513-021.
Exelon New England Power Marketing, L.P. | Docket No. ER99-2404-011.
FirstEnergy Operating Companies | Docket No. ER01-1403-006.
Pennsylvania Power Company, et al. | Docket No. ER06-1443-002.
Jersey Central Power & Light Company | Docket No. ER04-366-005.
FirstEnergy Solutions Corp. | Docket No. ER01-2968-007.
FirstEnergy Generation Corporation | Docket No. ER01-845-006.
FirstEnergy Nuclear Generating Corporation | Docket No. ER05-1122-004.
FirstEnergy Generating Mansfield Unit 1 Corp. | Docket No. ER08-107-001.

Take notice that, as provided in the Notice Setting Forth Timeline issued May 22, 2008 in the above-referenced dockets, the comment period for the filings described below that were submitted on April 30, 2008, May 15, 2008, May 27, 2008, and June 2, 2008 in these dockets is established as set forth below.

On April 30, 2008, PJM Interconnection, L.L.C. (PJM) filed a Motion To Intervene Out-Of-Time and Submission of The PJM Simultaneous Import Limitation Study, pursuant to the above captioned dockets for the PJM RTO Filers. PJM requested CEII treatment for the power flow cases for the Simultaneous Import Limitation Study.

On May 15, 2008, in conjunction with a conference call held on May 15, 2008 in the above-captioned dockets, PJM filed documents that it discussed on the conference call. On May 27, 2008, PJM filed additional power flow cases to supplement the Simultaneous Import Limitation Study and requested CEII treatment for these power flow cases.

On June 2, 2008, pursuant to the May 22, 2008 Notice Setting Forth Timeline, PJM filed a supplement to the PJM Simultaneous Import Limitation Study (i.e. , the PJM East Study) in the above captioned dockets. PJM requested CEII treatment for the supplemental power flow cases filed on June 2, 2008.

The May 22, 2008 notice also stated that a subsequent notice will instruct the PJM RTO Filers on when they must comply with the remaining requirements of a staff data request sent to the PJM RTO Filers on April 4, 2008. A number of entities have filed requests for clarification or rehearing of Order No. 697-A concerning the issue of how simultaneous transmission import capability is to be allocated among competing suppliers for purposes of performing the indicative screens.¹ Notice is hereby given that the PJM RTO Filers must file their revised updated market power analyses 45 days after the date of issuance of a Commission order addressing the issue of how simultaneous transmission import capability is to be allocated among competing suppliers for purposes of performing the indicative screens.

¹ Market-Based Rates for Wholesale Sales of Electric Energy, Capacity and Ancillary Services by Public Utilities, Order No. 697, FERC Stats. & Regs. ¶ 31,252, clarified, 121 FERC ¶ 61,260 (2007), order on reh'g, Order No. 697-A, n. 208 FERC Stats. & Regs ¶ 31,268 (2008).

Any person desiring to intervene or to protest the above-referenced filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, D.C. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time 21 days after issuance of this notice.

Kimberly D. Bose,
Secretary.

[FR Doc. E8-13423 Filed 6-13-08; 8:45 am]

BILLING CODE 6717-01-P